DEPARTMENT OF HOMELAND SECURITY

Federal Emergency Management Agency

[Docket ID FEMA-2013-0002; Internal Agency Docket No. FEMA-B-1317]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Florida: St. Johns | Unincorporated areas of St. Johns (13-04-1159P) | Mr. Michael D. Wanchick, St. Johns County Administrator, 500 San Sebastian View, St. Augustine, FL 32084 | St. Johns County Administrative Building, 4020 Lewis Speedway, St. Augustine, FL 32084 | http://www.bakeraecom.com/index.php/florida/st-johns/ | July 11, 2013 | 125147
New Mexico:
Bernalillo | City of Albuquerque (13-06-1053P) | The Honorable Richard J. Berry, Mayor, City of Albuquerque, P.O. Box 1293, Albuquerque, NM 87103 | 600 2nd Street Northwest, Albuquerque, NM 87102 | http://www.rampp-team.com/lomrs.htm | June 17, 2013 | 350002
Bernalillo | Unincorporated areas of Bernalillo County (13-06-1053P) | The Honorable Maggie Hart Stebbins, Chairman, Bernalillo County Board of Commissioners, 1 Civic Plaza Northwest, Albuquerque, NM 87102 | Bernalillo County, 2400 Broadway Southeast, Albuquerque, NM 87102 | http://www.rampp-team.com/lomrs.htm | June 17 , 2013 | 350001
Oklahoma:
Comanche | City of Lawton (11-06-3356P) | The Honorable Fred L. Fitch, Mayor, City of Lawton, 212 Southwest 9th Street, Lawton, OK 73501 | City Hall, 212 Southwest 9th Street, Lawton, OK 73501 | http://www.rampp-team.com/lomrs.htm | May 30, 2013 | 400049
Oklahoma | City of Oklahoma City (12-06-2435P) | The Honorable Mick Cornett, Mayor, City of Oklahoma City, 200 North Walker Avenue, 3rd Floor, Oklahoma City, OK 73102 | 420 West Main Street, Suite 700, Oklahoma City, OK 73102 | http://www.rampp-team.com/lomrs.htm | July 11, 2013 | 405378
Oklahoma | City of Oklahoma City (12-06-3471P) | The Honorable Mick Cornett, Mayor, City of Oklahoma City, 200 North Walker Avenue, 3rd Floor, Oklahoma City, OK 73102 | 420 West Main Street, Suite 700, Oklahoma City, OK 73102 | http://www.rampp-team.com/lomrs.htm | July 11, 2013 | 405378
Oklahoma | Unincorporated areas of Oklahoma County (12-06-2435P) | The Honorable Ray Vaughn, Chairman, Oklahoma County Board of Commissioners, 320 Robert S. Kerr Avenue, Suite 101, Oklahoma City, OK 73102 | Oklahoma County Courthouse, 320 Robert S. Kerr Avenue, Suite 101, Oklahoma City, OK 73102 | http://www.rampp-team.com/lomrs.htm | July 11, 2013 | 400466
Texas:
Bexar | City of San Antonio (12-06-3532P) | The Honorable Julian Castro, Mayor, City of San Antonio, P.O. Box 839966, San Antonio, TX 78283 | Municipal Plaza, 114 West Commerce Street, 7th Floor, San Antonio, TX 78205 | http://www.rampp-team.com/lomrs.htm | July 5, 2013 | 480045
Bexar | Unincorporated areas of Bexar County (12-06-3532P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.rampp-team.com/lomrs.htm | July 5, 2013 | 480035
Bexar | Unincorporated areas of Bexar County (13-06-0667P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.rampp-team.com/lomrs.htm | July 11, 2013 | 480035
Collin | City of Frisco (12-06-2227P) | The Honorable Maher Maso, Mayor, City of Frisco, 6101 Frisco Square Boulevard, 3rd Floor, Frisco, TX 75034 | 6101 Frisco Square Boulevard, 3rd Floor, Frisco, TX 75034 | http://www.rampp-team.com/lomrs.htm | July 8, 2013 | 480134
Collin | City of McKinney (12-06-2227P) | The Honorable Brian Loughmiller, Mayor, City of McKinney, 222 North Tennessee Street, McKinney, TX 75069 | 222 North Tennessee Street, McKinney, TX 75069 | http://www.rampp-team.com/lomrs.htm | July 8, 2013 | 480135
Collin | City of Plano (12-06-2231P) | The Honorable Phil Dyer, Mayor, City of Plano, 1520 Avenue K, Plano, TX 75074 | 1520 Avenue K, Plano, TX 75074 | http://www.rampp-team.com/lomrs.htm | July 5, 2013 | 480140
Dallas | Town of Sunnyvale (12-06-1197P) | The Honorable Jim Phaup, Mayor, Town of Sunnyvale, 127 North Collins Road, Sunnyvale, TX 75182 | Town Hall, 537 Long Creek Road, Sunnyvale, TX 75182 | http://www.rampp-team.com/lomrs.htm | July 12, 2013 | 480188
Harris | Unincorporated areas of Harris County (12-06-2602P) | The Honorable Ed M. Emmett, Harris County Judge, 1001 Preston Street, Suite 911, Houston, TX 77002 | Harris County, 10555 Northwest Freeway, Houston, TX 77002 | http://www.rampp-team.com/lomrs.htm | May 31, 2013 | 480287
Kaufman | City of Dallas (12-06-1197P) | The Honorable Mike Rawlings, Mayor, City of Dallas, 1500 Marilla Street, Room 5EN, Dallas, TX 75201 | City Hall, 320 East Jefferson Boulevard, Room 321, Dallas, TX 75203 | http://www.rampp-team.com/lomrs.htm | July 12, 2013 | 480171
Virginia:
Fairfax | Town of Herndon (12-03-2159P) | The Honorable Lisa C. Merkel, Mayor, Town of Herndon, P.O. Box 427, Herndon, VA 20172 | Municipal Center, 777 Lynn Street, Herndon, VA 20170 | http://www.rampp-team.com/lomrs.htm | July 11, 2013 | 510052
Fairfax | Unincorporated areas of Fairfax County (12-03-2159P) | The Honorable Sharon Bulova, Chairman-at-Large, Fairfax County Board of Supervisors, 12000 Government Center Parkway, Suite 530, Fairfax, VA 22035 | Fairfax County Department of Public Works and Environmental Services, 12000 Government Center Parkway, Suite 449, Fairfax, VA 22035 | http://www.rampp-team.com/lomrs.htm | July 11, 2013 | 515525

(Catalog of Federal Domestic Assistance No. 97.022, “Flood Insurance.”)

Roy E. Wright,
Deputy Associate Administrator for Mitigation, Department of Homeland Security, Federal Emergency Management Agency.

[FR Doc. 2013-11606 Filed 5-15-13; 8:45 am]

BILLING CODE 9110-12-P